DEPARTMENT OF HEALTH AND HUMAN SERVICES

Administration for Children and Families

Establishment of the National Advisory Committee on the Trafficking of Children and Youth in the United States

AGENCY: Office on Trafficking in Persons, Administration for Children and Families, Department of Health and Human Services.

ACTION: Establishment of Federal advisory committee.

SUMMARY: The National Advisory Committee on the Trafficking of Children and Youth in the United States (Committee) was established on November 7, 2024, to build on the work of the previous National Advisory Committee on the Sex Trafficking of Children and Youth in the United States, authorized pursuant to section 121 of the Preventing Sex Trafficking and Strengthening Families Act. The Committee advises on practical and general policies concerning improvements in the Nation's response to the human trafficking of children and youth in the United States, including the cooperation of Federal, State, local, and Tribal governments; child welfare agencies; social service providers; physical health and mental health providers; victim service providers; Federal, State, and local police; juvenile detention centers; State or local courts with responsibility for conducting or supervising proceedings related to child welfare or social services for children and their families; runaway and homeless youth programs; schools; technology, gaming and entertainment industry; and businesses and organizations that provide services to youth. While addressing the response to the trafficking of children and youth, the Committee shall consider recommendations related to the intersection of sex trafficking and labor trafficking among children and youth in the United States. Note that this Federal Register Notice of the Charter filing should have been published 15 days in advance.

DATES: The Committee's charter was filed on November 7, 2024.

ADDRESSES: To learn more about the Committee, access the Committee's website: https://www.acf.hhs.gov/otip/partnerships/national-advisory-committee.

FOR FURTHER INFORMATION CONTACT: Katherine Chon (Designated Federal Officer) at (202) 205-5778 or EndTrafficking@acf.hhs.gov or 330 C Street SW, Washington, DC, 20201. Additional information is available at https://www.acf.hhs.gov/otip/partnerships/the-national-advisory-committee.

SUPPLEMENTARY INFORMATION: Background of Committee: Following the sunset of the statutorily authorized Committee in January 2022 (pursuant to section 121 of the Preventing Sex Trafficking and Strengthening Families Act (Pub. L. 113-183) and governed by the provisions of Public Law 92-463, as amended (5 U.S.C. app. 2), this Committee is established as a discretionary committee under the authorization of Secretary of the U.S. Department of Health and Human Services.

Membership: The Committee shall consist of no more than 25 members, whose diverse experience and background enable them to provide balanced points of view with regard to carrying out the duties of the Committee. The members shall be selected by the Secretary of HHS in consultation with DOJ. At least one Committee member shall be a survivor of child sex trafficking and one Committee member shall be a survivor of child labor trafficking. Two Committee members shall be a Governor of a State, one of whom shall be a member of the Democratic Party and one of whom shall be a member of the Republican Party. Governors may send a leadership-level designee representing a State agency to attend Committee meetings. The members will be selected from among advocacy and victim service organizations; survivors of child trafficking at least 18 years of age; child welfare representatives; State, Tribal and local government human services officials; health and mental health representatives; law enforcement and judiciary; juvenile and youth development specialists; educators; the technology, entertainment and gaming industries; and the business community. The Democratic and Republican Governors shall be selected in consultation with the National Governor's Association. The Committee shall convene at least twice a year. This is an unpaid position and Committee members will not be considered employees of the Federal Government other than reimbursement of travel expenses and a per diem allowance in accordance with Federal Government regulations.

Megan E. Steel,
Deputy Director, Office of the Executive Secretariat.

[FR Doc. 2024-26881 Filed 11-18-24; 8:45 am]

BILLING CODE 4184-40-P